NATIONAL SCIENCE FOUNDATION

Committee Management; Notice of Establishment

The Director of the National Science Foundation has determined that the establishment of the Advisory Committee for Innovation Corps is necessary and in the public interest in connection with the performance of duties imposed upon the National Science Foundation (NSF), by 42 U.S.C. 1861 et seq. This determination follows consultation with the Committee Management Secretariat, General Services Administration.

Name of Committee: Advisory Committee for Innovation Corps (#80463).

Purpose: The Committee will provide advice to the National Science Foundation (NSF) on the direction, development, and enhancement of the Innovation Corps (I-Corps) program. The I-Corps program creates an opportunity to assess the readiness of emerging technology concepts and research results that show the immediate potential for broader applicability and impact. These results may be translated into valuable new technologies and products with near-term benefits to business, the economy and society. Specialized guidance may be addressed through the use of subcommittees, task groups or committees of visitors (COVs) within the structure of the Committee.

Responsible NSF Official: Dedric A. Carter, Senior Advisor for Strategic Initiatives, National Science Foundation, 4201 Wilson Boulevard, Arlington, VA 22230. Telephone: 703/292-8002.

Dated: February 23, 2012.
Susanne Bolton,
Committee Management Officer.

[FR Doc. 2012-4758 Filed 2-28-12; 8:45 am]

BILLING CODE 7555-01-P